DEPARTMENT OF ENERGY

Federal Energy Regulatory Commission

[Docket No. CP17-486-000]

National Fuel Gas Supply Corporation; Notice of Request for Extension of Time

Take notice that on November 16, 2023, National Fuel Gas Supply Corporation (National Fuel) requested that the Federal Energy Regulatory Commission (Commission) grant an extension of time, until December 1, 2024, to finalize testing of Well 7451 as ordered in the January 2018 Order. as authorized in the January 2018 Order (Order).¹ The Order required National Fuel to complete testing of Well 7451 within three years of the date of the Order.

¹ National Fuel Gas Supply Corporation, 162 FERC ¶ 62,063 (2018).

On February 4, 2021, the Commission granted National Fuel an extension of time, until December 1, 2023, to complete testing.²

² National Fuel Gas Supply Corporation, Docket No. 17-486-000, Letter Order Granting Extension.

As of May 19, 2023, National Fuel is no longer testing Well 7451 by withdrawing gas from the well. National Fuel does not intend to undertake any further withdrawals from the well. Currently, National Fuel is working to finalize its report on Well 7451 and anticipates that the report will be finalized by December 1, 2024, due to the complexity of the data and modeling involved in evaluating data National Fuel has collected and reported to the Commission in its quarterly Beech Hill reports.³

³ See, National Fuel's Quarterly Reports for its Beech Hill Storage Field, beginning with its first quarterly report filed on July 31, 2017 and continuing to its most recent report filed on November 16, 2020 covering the period April 1, 2020 through June 30, 2020, in CP14-501, et al.

This notice establishes a 15-calendar day intervention and comment period deadline. Any person wishing to comment on National Fuel's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (NGA) (18 CFR 157.10).

As a matter of practice, the Commission itself generally acts on requests for extensions of time to complete construction for NGA facilities when such requests are contested before order issuance. For those extension requests that are contested,⁴ the Commission will aim to issue an order acting on the request within 45 days.⁵ The Commission will address all arguments relating to whether the applicant has demonstrated there is good cause to grant the extension.⁶ The Commission will not consider arguments that re-litigate the issuance of the certificate order, including whether the Commission properly found the project to be in the public convenience and necessity and whether the Commission's environmental analysis for the certificate complied with the National Environmental Policy Act (NEPA).⁷ At the time a pipeline requests an extension of time, orders on certificates of public convenience and necessity are final and the Commission will not re-litigate their issuance.⁸ The Director of the Office of Energy Projects, or his or her designee, will act on all of those extension requests that are uncontested.

⁴ Contested proceedings are those where an intervenor disputes any material issue of the filing. 18 CFR 385.2201(c)(1).

⁵ Algonquin Gas Transmission, LLC, 170 FERC ¶ 61,144, at P 40 (2020).

⁶ Id. at P 40.

⁷ Similarly, the Commission will not re-litigate the issuance of an NGA section 3 authorization, including whether a proposed project is not inconsistent with the public interest and whether the Commission's environmental analysis for the permit order complied with NEPA.

⁸ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to the Commission's Public Reference Room. For assistance, contact FERC at FERCOnlineSupport@ferc.gov or call toll free, (886) 208-3676 or TTY (202) 502-8659.

The Commission strongly encourages electronic filings of comments in lieu of paper using the “eFile” link at http://www.ferc.gov. In lieu of electronic filing, you may submit a paper copy which must reference the Project docket number.

To file via USPS: Kimberly D. Bose, Secretary, Federal Energy Regulatory Commission, 888 First Street NE, Washington, DC 20426.

To file via any other courier: Kimberly D. Bose, Secretary, Federal Energy Regulatory Commission, 12225 Wilkins Avenue, Rockville, Maryland 20852.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Comment Date: 5:00 p.m. Eastern Time on December 6, 2023.

Dated: November 21, 2023.
Debbie-Anne A. Reese,
Deputy Secretary.

[FR Doc. 2023-26166 Filed 11-27-23; 8:45 am]

BILLING CODE 6717-01-P